OFFICE OF PERSONNEL MANAGEMENT

5 CFR Part 532

[Docket ID: OPM-2026-0133]

RIN 3206-AP11

Prevailing Rate Systems; Redefinition of the Raven Rock Mountain Complex to the Washington-Baltimore-Arlington Federal Wage System Wage Area

AGENCY: Office of Personnel Management.

ACTION: Proposed rule.

SUMMARY: The Office of Personnel Management (OPM) is proposing to redefine the Federal Wage System (FWS) wage area coverage of the Raven Rock Mountain Complex (RRMC), which spans small portions of Washington County, Maryland, which is in the Washington-Baltimore-Arlington wage area, and Adams County, Pennsylvania, which is in the Harrisburg-York-Lebanon, PA wage area. OPM proposes to redefine the RRMC portion of Adams County from the Harrisburg-York-Lebanon, PA wage area to the Washington-Baltimore-Arlington wage area so that all of the RRMC is in the same wage area. Portions of Adams County outside of RRMC would continue to be defined to the Harrisburg-York-Lebanon, PA, wage area. This change would align wage area coverage for installations within the Pentagon Reservation and prevent pay disparities among FWS employees working at the RRMC.

DATES: Send comments on or before April 27, 2026.

ADDRESSES: You may submit comments on the Federal Rulemaking Portal: https://www.regulations.gov. Follow the instructions for submitting comments.

All comments received must include the agency name and docket number or RIN for this document. The general policy for comments from members of the public is to make them available for public viewing at https://www.regulations.gov without change, including any personal identifiers or contact information. However, OPM retains discretion to redact personal or sensitive information from comments before they are posted. As required by 5 U.S.C. 553(b)(4), a summary of this rule may be found in the docket for this rulemaking at www.regulations.gov.

FOR FURTHER INFORMATION CONTACT: Ana Paunoiu by telephone at (202) 606-2858 or by email at paypolicy@opm.gov.

SUPPLEMENTARY INFORMATION: OPM is proposing to redefine the FWS wage area coverage of the RRMC. Under 10 U.S.C. 2674, the land and facilities at RRMC are included within the definition of the Pentagon Reservation. Under 10 U.S.C. 2674(f)(1), the Pentagon Reservation consists of the Pentagon, the Mark Center Campus, and RRMC. RRMC is defined in 10 U.S.C. 2674(f)(5) as “that area of land (consisting of approximately 720 acres) and improvements thereon, including parking areas, at the Raven Rock Mountain Complex and its supporting facilities located in Maryland and Pennsylvania.”

On January 21, 2025, OPM issued a final rule expanding the coverage of the Washington-Baltimore-Arlington FWS wage area, effective October 1, 2025. The expanded wage area covers the Pentagon Reservation, except for the Adams County portion of the RRMC. On July 30, 2025, the Department of Defense (DOD) requested that OPM amend the FWS regulations in Appendix C of 5 CFR part 532, subpart B, to provide that all of the RRMC be defined to the Washington-Baltimore-Arlington wage area so that the entirety of the Pentagon Reservation is defined to the same wage area.

Under 5 CFR 532.211, criteria such as employment interchange measures and distance, population and employment similarities, and other relevant factors are considered when defining FWS wage area boundaries. Adams County is appropriately defined to the Harrisburg-York-Lebanon, PA, wage area under these criteria. This proposed rule would make an exception to the standard regulatory requirements only for the RRMC portion of Adams County based on the other relevant factors criterion in the regulations cited by DOD.

Employment interchange and distance. Employment interchange means the movement of workers (in-commuting and out-commuting) within a large metropolitan area. The employment interchange is calculated using commuting patterns data collected by the U.S. Census Bureau as part of the American Community Survey. The employment interchange data reported by the Census Bureau reflects social and economic integration in a region.

Measured to nearby survey areas, Adams County shows a higher employment interchange measures percentage with the Harrisburg-York-Lebanon, PA, wage area (46.12 percent) than with Washington-Baltimore-Arlington (28.95 percent). Road distances from RRMC also favor Harrisburg-York-Lebanon (e.g., ~55.3 miles to Harrisburg vs. ~70.2 miles to Washington, DC; similar comparisons hold when measuring to host installations ¹).

¹ Under 5 CFR 532.201, the host installation is a local installation, designated by the lead agency to conduct wage survey activities and provide support facilities and clerical assistance for the local wage survey committee. DOD is the lead agency for the FWS.

Transportation and geography. Major highways connect RRMC to both the Harrisburg-York-Lebanon, PA, and Washington-Baltimore-Arlington survey areas; geographic features do not materially distinguish travel to one survey area over the other.

Population and employment similarities. OPM uses data from the U.S. Census Bureau to compare the overall population, employment, and kinds and sizes of private industrial establishments of a county to the nearby survey areas. Comparative metrics for Adams County versus the Harrisburg-York-Lebanon and Washington-Baltimore-Arlington survey areas are mixed and do not clearly favor either wage area when considered as a whole.

Other relevant factors. OPM issued a final rule (90 FR 7428) on January 21, 2025, amending the regulatory criteria in 5 CFR 532.211, pursuant to its authority to issue regulations governing the FWS in 5 U.S.C. chapter 53, subchapter IV. The amendments to the criteria used to define and maintain FWS wage areas led to several changes in wage area boundaries. One of these changes was the redefinition of Washington County, MD, from the Hagerstown-Martinsburg-Chambersburg, MD, wage area which was abolished and its constituent counties defined to the Washington-Baltimore-Arlington wage area. The final rule did not change the designation of Adams County, which remains in the Harrisburg-York-Lebanon, PA, wage area.

Based on information received from DOD, RRMC is located in two different counties: Washington County, MD, and Adams County, PA. As a result of moving Washington County to the Washington-Baltimore-Arlington wage area, RRMC FWS employees located in Washington County receive a higher rate of pay than RRMC FWS employees located in Adams County, PA. To support pay parity, DOD requested that OPM define the RRMC portion of Adams County to the Washington-Baltimore-Arlington wage area.

Analysis

Washington County, MD, is part of the Washington-Baltimore-Arlington, DC-MD-VA-WV-PA Combined Statistical Area (CSA).² Adams County, PA, is part of the Harrisburg-York-Lebanon, PA CSA. Under OPM regulations at 5 CFR 532.211(b), it is permissible for CSAs to be split between FWS wage areas only in very unusual circumstances, such as federal installations overlapping two or more CSAs and wage areas.

² The Office of Management and Budget (OMB) defines, maintains, and periodically updates the definitions of CSA boundaries. The most recent OMB definitions of CSAs are in OMB Bulletin No. 23-01 (available at https://www.whitehouse.gov/wp-content/uploads/2023/07/OMB-Bulletin-23-01.pdf), which was issued on July 21, 2023.

OPM recognizes that application of the employment interchange, distance, transportation, and population and employment similarity criteria in 5 CFR 532.211(d)(1) and (2) does not support redefining Adams County, Pennsylvania, as a whole to the Washington-Baltimore-Arlington FWS wage area. As discussed above, those criteria generally favor the Harrisburg-York-Lebanon, PA, wage area for Adams County when considered at the county level.

However, under 5 CFR 532.211(d)(1), OPM may consider other factors relevant to the process of determining and establishing rates of pay for wage employees at prevailing wage levels. OPM is exercising that discretion in this case for the limited portion of Adams County comprising RRMC.

RRMC is uniquely situated as part of the Pentagon Reservation, as defined in 10 U.S.C. 2674(f). Congress has statutorily designated RRMC, together with the Pentagon and the Mark Center Campus, as a single Federal reservation. RRMC is operated as an integrated component of the Pentagon Reservation, with centralized management, shared mission functions, and unified personnel administration.

As a result of OPM's January 21, 2025, final rule redefining Washington County, Maryland, to the Washington-Baltimore-Arlington wage area, the Pentagon Reservation is currently divided between two FWS wage areas solely due to the county boundary that bisects RRMC. OPM routinely treats federal installations overlapping two or more CSAs and wage areas as an unusual circumstance warranting redefinition of a portion of a CSA in another wage area only as necessary to place a complete Federal installation in a single wage area. For example, the Shenandoah National Park (approximately 105 miles long) overlaps the following counties: Albemarle, Augusta, Greene, Madison, Page, Rappahannock, Rockingham, and Warren Counties, VA. Albemarle and Greene Counties are part of the Charlottesville, VA CSA which is included in its entirety in the Richmond, VA, wage area. Augusta and Rockingham Counties, VA, are part of the Harrisonburg-Staunton-Stuarts Draft, VA CSA, which is included in its entirety in the Washington-Baltimore-Arlington wage area. Rappahannock and Warren Counties are part of the Washington-Baltimore-Arlington CSA, which is included in its entirety in the Washington-Baltimore-Arlington wage area. Madison County, VA, is not part of a CSA or MSA, but it is part of the Washington-Baltimore-Arlington wage area. To avoid paying FWS employees at the Shenandoah National Park from different wage schedules, OPM defined this installation in its entirety to the Washington-Baltimore-Arlington wage area. Augusta and Rockingham Counties, not including the Shenandoah National Park portions, continue to be defined to the Richmond wage area to avoid splitting the Charlottesville, VA CSA, appropriately included in the Richmond wage area.

Splitting Federal installations has the effect of applying different prevailing wage schedules to employees working at the same integrated Federal installation based solely on the side of the county boundary on which their duty station is located. In this case, the pay disparity referenced by DOD adversely affects attracting and retaining qualified prevailing rate employees on the Pennsylvania side of the installation. This proposal would correct a wage-area boundary that inadvertently split RRMC, a single, integrated Federal installation.

OPM finds that maintaining different FWS wage area definitions within a single, statutorily defined Federal reservation undermines the accuracy and integrity of prevailing rate determinations for that installation. In this circumstance, the application of county-level labor market criteria to RRMC does not adequately reflect the relevant labor market for purposes of establishing prevailing wage rates for RRMC employees, whose employment conditions are determined by the Pentagon Reservation as a whole rather than by the surrounding county.

Accordingly, OPM has tentatively determined that redefining the RRMC portion of Adams County to the Washington-Baltimore-Arlington wage area is warranted under 5 CFR 532.211(d)(1) as a narrowly tailored exception. Adams County, PA, except for the RRMC portion, would continue to be defined to the Harrisburg-York-Lebanon wage area. Washington County, MD, would continue to be defined to the Washington-Baltimore-Arlington wage area.

Miscellaneous Corrections and Revisions

On January 21, 2025, OPM published a final rule (90 FR 7428) changing the criteria used to define FWS wage area boundaries and making changes to certain wage areas. The final rule contained a few typographical errors and inadvertent omissions.

This proposed rule would make several corrections and revisions to Appendix A to subpart B of part 532—Nationwide Schedule of Appropriated Fund Regular Wage Surveys and Appendix C to subpart B of part 532—Appropriated Fund Wage and Survey Areas, concerning formatting, spelling, typographical errors, inconsistencies, and omissions made in the final rule, as follows:

This proposed rule would make the following revision to Appendix A: add the State of Connecticut, and a listing for the New Haven-Hartford wage area, with “DOD” as lead agency; “April” as the listing of the beginning month of survey; and “Odd” Fiscal Year of full-scale survey. The listing for the New Haven-Hartford wage area was inadvertently omitted in the final rule.

This proposed rule would make the following revisions to Appendix C:

• Birmingham-Cullman-Talladega Wage Area

Add “until” between “effective” and “January” to read “(effective until January 2028)” for Talladega County, Alabama, in the area of application. Talladega County, AL, was moved from the Anniston-Gadsden survey area to the Birmingham-Cullman-Talladega area of application, effective October 1, 2025, until January 2028. This county will subsequently be moved from the Birmingham-Cullman-Talladega area of application to the Birmingham-Cullman-Talladega survey area effective for local wage surveys beginning in January 2028. The final rule inadvertently omitted the word “until.”

• Washington-Baltimore-Arlington Wage Area

Revise the name of “Berkley” County, West Virginia, to read “Berkeley.”

• Miami-Port St. Lucie-Fort Lauderdale Wage Area

Add St. Lucie County, Florida, to the area of application of the Miami-Port St. Lucie-Fort Lauderdale wage area. Due to a formatting error, St. Lucie County was listed as a separate wage area, instead of being part of the Miami-Port St. Lucie-Fort Lauderdale wage area. Delete “St. Lucie” as a wage area entry.

• Augusta Wage Area

Replace “:” with “.” after “Survey area,” to read “Area of Application. Survey area.” for the Augusta wage area, in the State of Maine. The Augusta wage area does not have an area of application. As such, the correct punctuation is a period instead of a colon.

• Chicago-Naperville Wage Area

Delete “IL” from the title of the “Chicago-Naperville, IL” the wage area to read “Chicago-Naperville” to be consistent with how we list the titles of other wage areas.

• Roanoke Wage Area

Delete the Cities of Staunton and Waynesboro, Virginia, which were incorrectly included and duplicated in the area of application of the Roanoke wage area. These cities were moved to the Washington-Baltimore-Arlington wage area and were inadvertently not deleted from the Roanoke wage area.

Delete Augusta (Does not include the Shenandoah National Park portion) County, VA, which was incorrectly included and duplicated in the area of application of the Roanoke wage area. The entire Augusta County was moved to the Washington-Baltimore-Arlington wage area, and the Shenandoah National Park portion was inadvertently not deleted from the Roanoke wage area.

Expected Impact of This Rule

Section 5343 of title 5, U.S. Code, provides OPM with the authority and responsibility to define the boundaries of FWS wage areas. Any changes in wage area definitions can have the long-term effect of increasing pay for Federal employees in affected locations. OPM expects this rulemaking to impact around 50 FWS employees. Considering the small number of employees affected, OPM does not anticipate that this proposed rule will substantially impact local economies or have a large impact in local labor markets. However, OPM is requesting comment in this rulemaking regarding the impact. As this and future wage area changes may impact higher volumes of employees in geographical areas and could rise to the level of impacting local labor markets, OPM will continue to study the implications of such impacts in this or future rules as needed.

Regulatory Review

OPM has examined the impact of this rulemaking as required by Executive Orders 12866 and 13563 which direct agencies to assess all costs and benefits of available regulatory alternatives and, if regulation is necessary, to select regulatory approaches that maximize net benefits (including potential economic, environmental, public health and safety effects, distributive impacts, and equity). This rulemaking is not a “significant regulatory action” under Executive Order 12866. The rule is not an E.O. 14192 regulatory action because it is not significant under E.O. 12866.

Regulatory Flexibility Act

The Director of OPM certifies that this rule would not have a significant economic impact on a substantial number of small entities.

Federalism

OPM has examined this rule in accordance with Executive Order 13132, Federalism, and has determined that this rule will not have any negative impact on the rights, roles and responsibilities of State, local, or Tribal governments.

Civil Justice Reform

This rulemaking will not result in the expenditure by State, local, and Tribal governments, in the aggregate, or by the private sector, of $100 million or more in any year in 1995 dollars, updated annually for inflation. That threshold is currently approximately $206 million. This rulemaking will not significantly or uniquely affect small governments. Therefore, no actions were deemed necessary under the provisions of the Unfunded Mandates Reform Act of 1995.

Paperwork Reduction Act

This rulemaking does not impose any reporting or record-keeping requirements subject to the Paperwork Reduction Act.

List of Subjects in 5 CFR Part 532

Administrative practice and procedure, Freedom of information, Government employees, Reporting and recordkeeping requirements, Wages.

Signing Statement

The Director of OPM, Scott Kupor, reviewed and approved this document and has authorized the undersigned to electronically sign and submit this document to the Office of the Federal Register for publication.

Office of Personnel Management
Jerson Matias,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix A to subpart B, amend the table by adding in alphabetic order by state the New Haven-Hartford wage survey listing for the State of Connecticut.

Appendix A to Subpart B of Part 532—Nationwide Schedule of Appropriated Fund Regular Wage Surveys

* * * * *

* * * * *

* * * * * * *
Connecticut | New Haven-Hartford | DoD | April | Odd.
* * * * * * *

3. In Appendix C to subpart B—Appropriated Fund Wage and Survey Areas, amend the table by revising the wage area listing for the District of Columbia and for the States of Alabama, Florida, Illinois, Maine, Pennsylvania, and Virginia to read as follows:

Appendix C to Subpart B of Part 532—Appropriated Fund Wage and Survey Areas

* * * * *

Definitions of Wage Areas and Wage Area Survey Areas

ALABAMA

Birmingham-Cullman-Talladega

Survey Area

Alabama:

Calhoun (effective for wage surveys beginning in January 2028)

Etowah (effective for wage surveys beginning in January 2028)

Jefferson

St. Clair

Shelby

Talladega (effective for wage surveys beginning in January 2028)

Tuscaloosa

Walker

Area of Application. Survey area plus:

Alabama:

Bibb

Blount

Calhoun (effective until January 2028)

Chilton

Clay

Coosa

Cullman

Etowah (effective until January 2028)

Fayette

Greene

Hale

Lamar

Marengo

Perry

Pickens

Talladega (effective until January 2028)

Winston

Dothan

Survey Area

Alabama:

Dale

Houston

Georgia:

Early

Area of Application. Survey area plus:

Alabama:

Barbour

Coffee

Geneva

Henry

Georgia:

Clay

Miller

Seminole

Huntsville

Survey Area

Alabama:

Limestone

Madison

Marshall

Morgan

Area of Application. Survey area plus:

Alabama:

Colbert

DeKalb

Franklin

Lauderdale

Lawrence

Marion

Tennessee:

Giles

Lincoln

Wayne

Montgomery-Selma

Survey Area

Alabama:

Autauga

Elmore

Montgomery

Area of Application. Survey area plus:

Alabama:

Bullock

Butler

Crenshaw

Dallas

Lowndes

Pike

Wilcox

* * * * *

DISTRICT OF COLUMBIA

Washington-Baltimore-Arlington

Survey Area

District of Columbia:

Washington, DC

Maryland (city):

Baltimore (effective for wage surveys beginning in July 2027)

Maryland (counties):

Anne Arundel (effective for wage surveys beginning in July 2027)

Baltimore (effective for wage surveys beginning in July 2027)

Carroll (effective for wage surveys beginning in July 2027)

Charles

Frederick

Harford (effective for wage surveys beginning in July 2027)

Howard (effective for wage surveys beginning in July 2027)

Montgomery

Prince George's

Washington (effective for wage surveys beginning in July 2027)

Pennsylvania:

Franklin (effective for wage surveys beginning in July 2027)

Virginia (cities):

Alexandria

Fairfax

Falls Church

Manassas

Manassas Park

Virginia (counties):

Arlington

Fairfax

King George (effective for wage surveys beginning in July 2027)

Loudoun

Prince William

West Virginia:

Berkeley (effective for wage surveys beginning in July 2027)

Area of Application. Survey area plus:

Maryland (city):

Baltimore (effective until July 2027)

Maryland (counties):

Allegany

Anne Arundel (effective until July 2027)

Baltimore (effective until July 2027)

Calvert

Caroline

Carroll (effective until July 2027)

Dorchester

Garrett

Harford (effective until July 2027)

Howard (effective until July 2027)

Kent

Queen Anne's

St. Mary's

Talbot

Washington (effective until July 2027)

Pennsylvania:

Adams (Only includes the Raven Rock Mountain Complex)

Franklin (effective until July 2027)

Fulton

Virginia (cities):

Fredericksburg

Harrisonburg

Staunton

Waynesboro

Winchester

Virginia (counties):

Albemarle (Only includes the Shenandoah National Park portion)

Augusta

Caroline

Clarke

Culpeper

Fauquier

Frederick

Greene (Only includes the Shenandoah National Park portion)

King George (effective until July 2027)

Madison

Orange

Page

Rappahannock

Rockingham

Shenandoah

Spotsylvania

Stafford

Warren

Westmoreland

West Virginia:

Berkeley (effective until July 2027)

Hampshire

Hardy

Jefferson

Mineral

Morgan

FLORIDA

Cocoa-Beach

Survey Area

Florida:

Brevard

Area of Application. Survey area.

Jacksonville

Survey Area

Florida:

Alachua

Baker

Clay

Columbia (effective for wage surveys beginning in January 2027)

Duval

Nassau

Orange (effective for wage surveys beginning in January 2027)

St. Johns

Sumter (effective for wage surveys beginning in January 2027)

Georgia:

Camden

Area of Application. Survey area plus:

Florida:

Bradford

Citrus

Columbia (effective until January 2027)

Dixie

Flagler

Gilchrist

Hamilton

Lafayette

Lake

Levy

Madison

Marion

Orange (effective until January 2027)

Osceola

Polk

Putnam

Seminole

Sumter (effective until January 2027)

Suwannee

Taylor

Union

Volusia

Georgia:

Charlton

Miami-Port St. Lucie-Fort Lauderdale

Survey Area

Florida:

Miami-Dade

Palm Beach (effective for wage surveys beginning in May 2027)

Area of Application. Survey area plus:

Florida:

Broward

Collier

Glades

Hendry

Highlands

Indian River

Lee

Martin

Monroe

Okeechobee

Palm Beach (effective until May 2027)

St. Lucie

Panama City

Survey Area

Florida:

Bay

Gulf

Area of Application. Survey area plus:

Florida:

Calhoun

Franklin

Gadsden

Holmes

Jackson

Jefferson

Leon

Liberty

Wakulla

Washington

Georgia:

Decatur

Pensacola

Survey Area

Florida:

Escambia

Santa Rosa

Area of Application. Survey area plus:

Alabama:

Baldwin

Clarke

Conecuh

Covington

Escambia

Mobile

Monroe

Washington

Florida:

Okaloosa

Walton

Tampa-St. Petersburg

Survey Area

Florida:

Hillsborough

Pasco

Pinellas

Area of Application. Survey area plus:

Florida:

Charlotte

De Soto

Hardee

Hernando

Manatee

Sarasota

* * * * *

ILLINOIS

Bloomington-Pontiac

Survey Area

Illinois:

Champaign

Menard

Sangamon

Vermilion

Area of Application. Survey area plus:

Illinois:

Christian

Clark

Coles

Crawford

Cumberland

De Witt

Douglas

Edgar

Ford

Jasper

Livingston

Logan

McLean

Macon

Morgan

Moultrie

Piatt

Scott

Shelby

Chicago-Naperville

Survey Area

Illinois:

Cook

Du Page

Kane

Lake

McHenry

Will

Area of Application. Survey area plus:

Illinois:

Boone

Bureau

De Kalb

Grundy

Iroquois

Kankakee

Kendall

La Salle

Ogle

Putnam

Stephenson

Winnebago

Indiana:

Jasper

Lake

La Porte

Newton

Porter

Pulaski

Starke

Wisconsin:

Kenosha

* * * * *

MAINE

Augusta

Survey Area

Maine:

Kennebec

Knox

Lincoln

Area of Application. Survey area.

Central and Northern Maine

Survey Area

Maine:

Aroostook

Penobscot

Area of Application. Survey area plus:

Maine:

Hancock

Piscataquis

Somerset

Waldo

Washington

* * * * *

PENNSYLVANIA

Harrisburg-York-Lebanon

Survey Area

Pennsylvania:

Cumberland

Dauphin

Lebanon

Union (effective for wage surveys beginning in May 2026)

York

Area of Application. Survey area plus:

Pennsylvania:

Adams (Does not include the Raven Rock Mountain Complex)

Clinton

Juniata

Lancaster

Lycoming

Mifflin

Perry

Snyder

Union (effective until May 2026)

Philadelphia-Reading-Camden

Survey Area

Delaware:

Kent (effective for wage surveys beginning in October 2027)

New Castle (effective for wage surveys beginning in October 2027)

Maryland:

Cecil (effective for wage surveys beginning in October 2027)

New Jersey:

Burlington (Excluding the Joint Base McGuire-Dix-Lakehurst portion)

Camden

Gloucester

Salem (effective for wage surveys beginning in October 2027)

Pennsylvania:

Bucks

Chester

Delaware

Montgomery

Philadelphia

Area of Application. Survey area plus:

Delaware:

Kent (effective until October 2027)

New Castle (effective until October 2027)

Sussex

Maryland:

Cecil (effective until October 2027)

Somerset

Wicomico

Worcester (Does not include the Assateague Island portion)

New Jersey:

Atlantic

Cape May

Cumberland

Salem (effective until October 2027)

Pennsylvania:

Berks

Schuylkill

Pittsburgh

Survey Area

Pennsylvania:

Allegheny

Beaver

Butler

Cambria (effective for wage surveys beginning in July 2027)

Washington

Westmoreland

Area of Application. Survey area plus:

Ohio:

Belmont

Harrison

Jefferson

Pennsylvania:

Armstrong

Bedford

Blair

Cambria (effective until July 2027)

Cameron

Centre

Clarion

Clearfield

Crawford

Elk (Does not include the Allegheny National Forest portion)

Erie

Fayette

Forest (Does not include the Allegheny National Forest portion)

Greene

Huntingdon

Indiana

Jefferson

Lawrence

Mercer

Potter

Somerset

Venango

West Virginia:

Brooke

Hancock

Marshall

Ohio

Scranton-Wilkes-Barre

Survey Area

Pennsylvania:

Lackawanna

Luzerne

Area of Application. Survey area plus:

Pennsylvania:

Bradford

Columbia

Montour

Northumberland

Sullivan

Susquehanna

Wyoming

* * * * *

VIRGINIA

Richmond

Survey Area

Virginia (cities):

Colonial Heights

Hopewell

Petersburg

Richmond

Virginia (counties):

Charles City

Chesterfield

Dinwiddie

Goochland

Hanover

Henrico

New Kent

Powhatan

Prince George

Area of Application. Survey area plus:

Virginia (cities):

Charlottesville

Emporia

Virginia (counties):

Albemarle (Does not include the Shenandoah National Park portion)

Amelia

Brunswick

Buckingham

Charlotte

Cumberland

Essex

Fluvanna

Greene (Does not include the Shenandoah National Park portion)

Greensville

King and Queen

King William

Lancaster

Louisa

Lunenburg

Mecklenburg

Nelson

Northumberland

Nottoway

Prince Edward

Richmond

Sussex

Roanoke

Survey Area

Virginia (cities):

Radford

Roanoke

Salem

Virginia (counties):

Botetourt

Craig

Montgomery

Roanoke

Area of Application. Survey area plus:

Virginia (cities):

Buena Vista

Covington

Danville

Galax

Lexington

Lynchburg

Martinsville

Virginia (counties):

Alleghany

Amherst

Appomattox

Bath

Bedford

Bland

Campbell

Carroll

Floyd

Franklin

Giles

Halifax

Henry

Highland

Patrick

Pittsylvania

Pulaski

Rockbridge

Wythe

Virginia Beach-Chesapeake

Survey Area

North Carolina:

Currituck

Pasquotank (effective for wage surveys beginning in May 2026)

Virginia (cities):

Chesapeake

Hampton

Newport News

Norfolk

Poquoson

Portsmouth

Suffolk

Virginia Beach

Williamsburg

Virginia (counties):

Gloucester

James City

York

Area of Application. Survey area plus:

Maryland:

Worcester (Only includes the Assateague Island portion)

North Carolina:

Camden

Chowan

Dare

Gates

Hertford

Pasquotank (effective until May 2026)

Perquimans

Tyrrell

Virginia (city):

Franklin

Virginia (counties):

Accomack

Isle of Wight

Mathews

Middlesex

Northampton

Southampton

Surry

* * * * *

[FR Doc. 2026-03801 Filed 2-24-26; 8:45 am]

BILLING CODE 6325-39-P